DEPARTMENT OF JUSTICE

Antitrust Division

Notice Pursuant to the National Cooperative Research and Production Act of 1993—Open Devicenet Vendor Association, Inc.

Notice is hereby given that, on March 18, 2008, pursuant to Section 6(a) of the National Cooperative Research and Production Act of 1993, 15 U.S.C. 4301 et seq. (“the Act”), Open DeviceNet Vendor Association, Inc. (“ODVA”) has filed written notifications simultaneously with the Attorney General and the Federal Trade Commission disclosing changes in its membership. The notifications were filed for the purpose of extending the Act's provisions limiting the recovery of antitrust plaintiffs to actual damages under specified circumstances. Specifically, Power Electronics S.L., Valencia, SPAIN; Beijing Sevenstar Electronics, Beijing, PEOPLE'S REPUBLIC OF CHINA; GE Multilin, Markham, Ontario, CANADA; Aerotech, Inc., Pittsburgh, PA; Phoenix Digital Corporation, Scottsdale, AZ; Weed Instrument Co., Inc., Round Rock, TX; Nor-Cal Products, Inc., Yreka, CA; TPC Mechatronics Co., Ltd., Seoul, REPUBLIC OF KOREA; Cervis, Inc., Warrendale, PA; Meggitt Airdynamics, Inc., a Division of Whittaker Controls, Corona, CA; Toshiba Schneider Inverter Corporation, Mie-Pref, JAPAN; HONDA TSUSHIN KOGYO CO., LTD., Tokyo, JAPAN; and SensoPart Industriesensorik GmbH, Weiden, GERMANY have been added as parties to this venture.

Also, Siemens Energy & Automation, Inc., Johnson City, TN; Hitachi High-Tech Control Systems Corporation (Hitachi Naka Electronics Co. Ltd.), Ibaraki-ken, JAPAN; Nohken, Inc., Tokyo, JAPAN; Lika Electronic SNC, Carre' (VI), ITALY; SensArray Corporation, Austin, TX; Kawasaki Heavy Industries, Ltd., Hyogo, JAPAN; Siemens PA PS, Grand Rapids, MI; Partlow, Gurnee, IL; and Redwood MicroSystems, Inc., Menlo Park, CA have withdrawn as parties to this venture.

In addition, the following members have changed their names: Kuroda Precision Industries, Ltd. to Kuroda Pneumatics Ltd., Kanagawa, JAPAN; Enercon-Nord Electronic GmbH to NORD Electronic DRIVESYSTEMS GmbH, Bargteheide DE, GERMANY; and Crouse-Hinds Molded Products to Cooper Interconnect, Division of Cooper Crouse-Hinds, LaGrange, NC.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on November 14, 2007. A notice was published in the Federal Register pursuant to Section 6(b) of the Act on December 31, 2007 (72 FR 74331).

Patricia A. Brink,
Deputy Director of Operations, Antitrust Division.

[FR Doc. E8-8622 Filed 4-22-08; 8:45 am]

BILLING CODE 4410-11-M